JUDICIAL CONFERENCE OF THE UNITED STATES

Hearing of the Judicial Conference Advisory Committee on Rules of Bankruptcy Procedure

AGENCY: Judicial Conference of the United States, Advisory Committee on Rules of Bankruptcy Procedure.

ACTION: Notice of cancellation of open hearing.

SUMMARY: The public hearing on proposed amendments to the Federal Rules of Bankruptcy Procedure, scheduled for April 12, 2002, in Washington, DC, has been canceled. [Original notice of hearing appeared in the Federal Register of March 4, 2002.]

FOR FURTHER INFORMATION CONTACT: John K. Rabiej, Chief, Rules Committee Support Office, Administrative Office of the United States Courts, Washington, DC 20544, telephone (202) 502-1820.

Dated: March 19, 2002.
John K. Rabiej,
Chief, Rules Committee Support Office.

[FR Doc. 02-7076 Filed 3-22-02; 8:45 am]

BILLING CODE 2210-55-M